FEDERAL EMERGENCY MANAGEMENT AGENCY

Agency Information Collection Activities: Submission for OMB Review; Comment Request

ACTION: Notice and request for comments.

SUMMARY: The Federal Emergency Management Agency has submitted the following proposed information collection to the Office of Management and Budget for review and clearance in accordance with the requirements of the Paperwork Reduction Act of 1995 (44 U.S.C. 3507).

Title: Residential Basement Floodproofing Certification.

Type of Information Collection: Extension of a currently approved collection.

OMB Number: 3067-0235.

Form(s): FEMA Form 81-78.

Abstract: The certificate provides licensed design professionals a standard means of certifying the construction of floodproofed basements below the Base Flood Elevation. This certificate is only used in communities participating in the National Flood Insurance Program, who have been granted a “basement” exception. The homeowner must pay for the cost of the certification. Homeowners must have a registered professional engineer or architect to complete FEMA Form 81-78 for development or inspection of the structural design basement, and certify that the basement design and methods of construction are in accordance with floodplain management ordinances. Homeowners also provide FEMA Form 81-78 to their insurance agent to receive discounted flood insurance under the National Flood Insurance Program (NFIP).

Affected Public: Individuals or Households.

Number of Respondents: 50.

Estimated Time per Respondent: 3.25 hours.

Estimated Total Annual Burden Hours: 163 hours.

Frequency of Response: On occasions.

Cost to Respondents: $16.250.

COMMENTS: Interested persons are invited to submit written comments on the proposed information collection to the Desk Officer for the Federal Emergency Management Agency, Office of Information and Regulatory Affairs, Office of Management and Budget, Washington, DC 20503 within 30 days of the date of this notice.

FOR FURTHER INFORMATION CONTACT: Requests for additional information or copies of the information collection should be made to Muriel B. Anderson, Chief, Records Management Branch, Program Services Division, Operations Support Directorate, Federal Emergency Management Agency, 500 C Street, SW, Room 316, Washington, DC 20472, telephone number (202) 646-2625, FAX number (202) 646-3524, or e-mail address: muriel.anderson@fema.gov.

Dated: June 28, 2000.
Reginald Trujillo,
Director, Program Services Division, Operations Support Directorate.

[FR Doc. 00-17363 Filed 7-7-00; 8:45 am]

BILLING CODE 6718-01-P